FEDERAL TRADE COMMISSION

16 CFR Part 464

Unfair or Deceptive Fees Trade Regulation Rule

AGENCY: Federal Trade Commission.

ACTION: Notice; extension of public comment period.

SUMMARY: The Federal Trade Commission (“FTC” or “Commission”) is extending the deadline for filing comments on its advance notice of proposed rulemaking (“ANPR”) regarding whether the Commission should prescribe new trade regulation rules or other regulatory alternatives concerning unfair or deceptive acts or practices concerning fees that are prevalent.

DATES: For the ANPR published November 8, 2022 (87 FR 67413), the comment deadline is extended from January 9, 2023, to February 8, 2023.

FOR FURTHER INFORMATION CONTACT: Austin King (202-326-3166), Associate General Counsel for Rulemaking, Federal Trade Commission, 600 Pennsylvania Avenue NW, Washington, DC 20580.

SUPPLEMENTARY INFORMATION: On October 20, 2022, the Commission announced it would publish an ANPR to seek public comments on the prevalence of fee practices that may be unfair or deceptive acts or practices under the Federal Trade Commission Act and whether the Commission should prescribe new trade regulation rules or other regulatory alternatives to address them. Interested parties have subsequently requested an extension of the public comment period to give them additional time to respond to the ANPR's request for comment.

The Commission agrees that allowing additional time for filing comments in response to the ANPR would help facilitate the creation of a more complete record. The Commission has therefore decided to extend the comment period for 30 days, to February 8, 2023. A 30-day extension will provide commenters adequate time to address the issues raised in the ANPR.

By direction of the Commission.
Joel Christie,
Acting Secretary.

[FR Doc. 2023-01471 Filed 1-24-23; 8:45 am]

BILLING CODE 6750-01-P